DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project, North County Corridor New State Route 108 Project and Route Adoption, which proposes a new freeway/expressway for portions of State Route 108, 219 and 120 in the County of Stanislaus, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 9, 2020. If the Federal law that authorizes judicial review of a claim provides a time period of less than 150 days for filing such claim, then that shorter time period still applies.

FOR FURTHER INFORMATION CONTACT: For Caltrans: Jennifer Lugo, Branch Chief, Northern San Joaquin Valley Management Branch I, 855 M Street, Suite 200, Fresno, CA 93721, weekdays from 7:30 a.m. to 4:15 p.m., jennifer.lugo@dot.ca.gov, telephone (559) 445-6172. For FHWA, contact David Tedrick at (916) 498-5024 or email david.tedrick@dot.gov.

SUPPLEMENTARY INFORMATION: Effective July 1, 2007, the FHWA assigned, and the Caltrans assumed, environmental responsibilities for this project pursuant to 23 U.S.C. 327. Notice is hereby given that the Caltrans, has taken final agency actions subject to 23 U.S.C. 139(l)(1) by issuing licenses, permits, and approvals for the following highway project in the State of California: North County Corridor New State Route 108 Project and Route Adoption in Stanislaus County, California. The project would construct an eighteen mile long roadway alignment from State Route 108 (McHenry Avenue) to State Route 120 approximately six miles east of the City of Oakdale. The project would serve as a bypass for the cities of Riverbank, Oakdale, and Modesto to reduce existing and future traffic congestion in Northern Stanislaus County, support the efficient movement of goods and services and improve interregional travel. The actions by the Federal agencies, and the laws under which such actions were taken, are described in the Final Environmental Impact Statement (FEIS) for the project, approved on March 3, 2020, in the FHWA Record of Decision (ROD) issued on May 22, 2020, and in other documents in the FHWA project records. The FEIS, ROD, and other project records are available by contacting Caltrans at the addresses provided above. The Caltrans FEIS and ROD can be viewed and downloaded from the project website at http://www.stancounty.com/publicworks/projects.shtm, or due to the current COVID 19 pandemic, please contact Juan Torres at juan.torres@dot.ca.gov for a printed version of this document. This notice applies to all Federal agency decisions as of the issuance date of this notice and all laws under which such actions were taken, including but not limited to:

1. National Environmental Policy Act (NEPA)

2. Fixing America's Surface Transportation Act (Fast Act)

3. Clean Air Act

4. Federal-Aid Highway Act

5. Clean Water Act

6. Historic Sites Act

7. Archeological Resources Protection Act

8. Archeological and Historic Preservation Act

9. Antiquities Act

10. Endangered Species Act

11. Migratory Bird Treaty Act

12. Fish and Wildlife Coordination Act

13. Section 4(f) of the Department of Transportation Act

14. Civil Rights Act, Title VI

15. Farmland Protection Policy Act

16. Rehabilitation Act

17. Americans with Disabilities Act

18. Safe Drinking Water Act

19. Occupational Safety and Health Act

20. Atomic Energy Act

21. Toxic Substances Control Act

22. Federal Insecticide, Fungicide and Rodenticide Act

23. E.O. 11990 Protection of Wetlands; E.O. 11988 Floodplain Management

24. E.O. 12898, Federal Actions to Address Environmental Justice in Minority Populations and Low Income Populations

25. E.O. 12088, Federal Compliance with Pollution Control Standards

(Catalog of Federal Domestic Assistance Program Number 20.205, Highway Planning and Construction. The regulations implementing Executive Order 12372 regarding intergovernmental consultation on Federal programs and activities apply to this program.)

Authority: 23 U.S.C. 139(l)(1)

Issued on: June 5, 2020.
Rodney Whitfield,
Director, Financial Services, Federal Highway Administration, California Division.

[FR Doc. 2020-12668 Filed 6-10-20; 8:45 am]

BILLING CODE 4910-RY-P